DEPARTMENT OF ENERGY

Federal Energy Regulatory Commission

Combined Notice of Filings

Take notice that the Commission has received the following Natural Gas Pipeline Rate and Refund Report filings:

Filings Instituting Proceedings

Docket Numbers: RP18-1030-000.

Applicants: Equitrans, L.P.

Description: § 4(d) Rate Filing: Negotiated Capacity Release Agreements—8/1/2018 to be effective 8/1/2018.

Filed Date: 8/1/18.

Accession Number: 20180801-5031.

Comments Due: 5 p.m. ET 8/13/18.

Docket Numbers: RP18-1031-000.

Applicants: WBI Energy Transmission, Inc.

Description: § 4(d) Rate Filing: 2018 Negotiated Rate Non-Conforming SA's FT-1463 and FT-1464 to be effective 9/1/2018.

Filed Date: 8/1/18.

Accession Number: 20180801-5037.

Comments Due: 5 p.m. ET 8/13/18.

Docket Numbers: RP18-1032-000.

Applicants: Portland Natural Gas Transmission System.

Description: § 4(d) Rate Filing: Implementation of Navigates to be effective 9/1/2018.

Filed Date: 8/1/18.

Accession Number: 20180801-5051.

Comments Due: 5 p.m. ET 8/13/18.

Docket Numbers: RP18-1033-000.

Applicants: Gulf Crossing Pipeline Company LLC.

Description: § 4(d) Rate Filing: Cap Rel Neg Rate Agmt (XTO 1846 to Southwest Energy 2022) to be effective 8/1/2018.

Filed Date: 8/1/18.

Accession Number: 20180801-5053.

Comments Due: 5 p.m. ET 8/13/18.

Docket Numbers: RP18-1034-000.

Applicants: Texas Gas Transmission, LLC.

Description: § 4(d) Rate Filing: Remove Expired Agreements eff 8/1/2018.

Filed Date: 8/1/18.

Accession Number: 20180801-5054.

Comments Due: 5 p.m. ET 8/13/18.

Docket Numbers: RP18-1035-000.

Applicants: Northern Natural Gas Company.

Description: § 4(d) Rate Filing: 20180801 Non Conforming to be effective 9/1/2018.

Filed Date: 8/1/18.

Accession Number: 20180801-5106.

Comments Due: 5 p.m. ET 8/13/18.

Docket Numbers: RP18-1036-000.

Applicants: Gulf South Pipeline Company, LP.

Description: § 4(d) Rate Filing: NC Neg Rate Agmt Filing (Interim St Charles Exp Proj Entergy LA 48765) to be effective 9/1/2018.

Filed Date: 8/1/18.

Accession Number: 20180801-5122.

Comments Due: 5 p.m. ET 8/13/18.

Docket Numbers: RP18-1037-000.

Applicants: NEXUS Gas Transmission, LLC.

Description: Compliance filing NEXUS Baseline Tariff re Docket No. CP16-22 to be effective 9/30/2018.

Filed Date: 8/1/18.

Accession Number: 20180801-5124.

Comments Due: 5 p.m. ET 8/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 2, 2018.
Nathaniel J. Davis, Sr.,
Deputy Secretary.

[FR Doc. 2018-16910 Filed 8-7-18; 8:45 am]

BILLING CODE 6717-01-P